DEPARTMENT OF HOMELAND SECURITY

Coast Guard

33 CFR Part 165

[Docket No. USCG-2015-1048]

Safety Zone; Circle Line Sightseeing Fireworks, Liberty Island, Upper New York Bay, Manhattan, NY

AGENCY: Coast Guard, DHS.

ACTION: Notice of enforcement of regulation.

SUMMARY: The Coast Guard will enforce a safety zone in the Captain of the Port New York Zone on the specified date and time. This action is necessary to ensure the safety of vessels and spectators from hazards associated with fireworks displays. During the enforcement period, no person or vessel may enter the safety zone without permission from the Captain of the Port (COTP).

DATES: The regulation for the safety zone described in 33 CFR 165.160 will be enforced on December 31, 2015 from 11:30 p.m. to 12:40 a.m. on January 1, 2016.

FOR FURTHER INFORMATION CONTACT: If you have questions on this notice of enforcement, call or email Marine Science Technician First Class Daniel Vazquez, Coast Guard; telephone 718-354-4154, email daniel.vazquez@uscg.mil.

SUPPLEMENTARY INFORMATION: The Coast Guard will enforce the safety zone listed in 33 CFR 165.160 on the specified date and time as indicated in Table 1 below. This regulation was published in the Federal Register on November 9, 2011 (76 FR 69614).

Table 1
1. Circle Line Sightseeing Fireworks; Liberty Island Safety Zone; 33 CFR 165.168(a)(1) | • Launch site: A barge located in approximate position 40°41′16.5″ N., 074°02′23″ W. (NAD 1983), approximately 360 yards east of Liberty Island. This Safety Zone is a 180-yard radius from the barge. • Date: December 31, 2015-January 1, 2016. • Time: 11:30 p.m.-12:40 a.m.

Under the provisions of 33 CFR 165.160, a vessel may not enter the regulated area unless given express permission from the COTP or the designated representative. Spectator vessels may transit outside the regulated area but may not anchor, block, loiter in, or impede the transit of other vessels. The Coast Guard may be assisted by other Federal, State, or local law enforcement agencies in enforcing this regulation.

This notice of enforcement is issued under authority of 33 CFR 165.160(a) and 5 U.S.C. 552(a). In addition to this notice in the Federal Register, the Coast Guard will provide mariners with advanced notification of enforcement periods via the Local Notice to Mariners and marine information broadcasts. If the COTP determines that the regulated area need not be enforced for the full duration stated in this notice of enforcement, a Broadcast Notice to Mariners may be used to grant general permission to enter the regulated area.

Dated: December 1, 2015.
M.H. Day,
Captain, U.S. Coast Guard, Captain of the Port New York.

[FR Doc. 2015-31910 Filed 12-17-15; 8:45 am]

BILLING CODE 9110-04-P